DEPARTMENT OF COMMERCE

International Trade Administration

A-570-848

Freshwater Crawfish Tail Meat from the People's Republic of China: Notice of Amended Final Results of Administrative Review Pursuant to Final Court Decision

AGENCY: Import Administration, International Trade Administration, Department of Commerce.

EFFECTIVE DATE: July 11, 2008.

FOR FURTHER INFORMATION CONTACT: Alex Villanueva, AD/CVD Operations, Office 9, Import Administration, International Trade Administration, U.S. Department of Commerce, 14th Street and Constitution Avenue, NW, Washington, DC 20230; telephone: 202- 482-3208.

SUPPLEMENTARY INFORMATION:

Background

This matter arose from a challenge to the results in the Department of Commerce's (the “Department”) Notice of Final Results of Antidumping Duty Administrative Review, and Final Partial Rescission of Antidumping Duty Administrative Review of Freshwater Crawfish Tail Meat from the People's Republic of China, 67 FR 19546 (April 22, 2002) (“Final Results”) and accompanying Issues and Decision Memorandum (“Memo”), covering the period of review (“POR”), September 1, 1999 August 31, 2000. Following publication of the Final Results, Fujian Pelagic Fishery Group Co. (“Fujian”) and Pacific Coast Fishery Corp. (“Pacific Coast”), filed a lawsuit with the United States Court of International Trade (“CIT”) challenging the Department's Final Results. In the Final Results, the Department determined that Fujian and Pacific Coast were not affiliated pursuant to section 771(33) of the Tariff Act of 1930, as amended (“the Act”). See Memo at Comment 18. Fujian and Pacific Coast challenged the Department's determination and the CIT affirmed the Department's determination that Fujian and Pacific Coast were not affiliated parties because “Fujian had not made an investment, whether in cash or in the form of a promissory note, in Pacific Coast” and because “Fujian did not exercise control over Pacific Coast.” See Crawfish Processors Alliance, et al. v. United States, 343 F. Supp. 2d 1242, 1269 (CIT 2004).

Fujian and Pacific Coast timely appealed the CIT's decision with the United States Court of Appeals for the Federal Circuit (“CAFC”). The only issue considered on appeal was whether Fujian and Pacific Coast were affiliated parties pursuant to section 771(33)(E) of the Act. The CAFC reversed the CIT's affirmance of the Department's determination that Fujian and Pacific Coast were not affiliated because section 771(33)(E) of the Act does not require “proof of full payment in cash or merchandise during the review period to show affiliation” and that Fujian and Pacific Coast “have presented sufficient evidence to show that Fujian directly or indirectly owns at least 5% of Pacific Coast's shares.” See Crawfish Processors Alliance, et al. v. United States, 477 F.3d 1375, 1384 (Fed. Cir. 2007). The CAFC remanded the case to the CIT for proceedings consistent with its opinion. Therefore, on October 30, 2007, the CIT directed the Department to recalculate the antidumping duty margin treating Fujian and Pacific Coast as affiliated parties in compliance with the CAFC's decision and mandate.

On December 11, 2007, the Department released the draft final results of redetermination for comment. No party submitted comments by the December 20, 2007, deadline. On January 24, 2008, the Department filed its final results of redetermination pursuant to remand with the CIT. See Final Results of Redetermination Pursuant to Court Remand, Court No. 02-00376 (January 24, 2008) (“Final Redetermination”), found at http://ia.ita.doc.gov/remands/07-156.pdf. In the remand redetermination, pursuant to the CIT's order, the Department considered Fujian and Pacific Coast affiliated parties under section 771(33)(E) of the Act and recalculated Fujian's dumping margin using Pacific Coast's CEP sales data. On March 5, 2008, the CIT sustained all aspects of the remand redetermination made by the Department pursuant to the CIT's remand of the Final Results. See Crawfish Processors Alliance v. United States, Slip Op. 08-27 (March 5, 2008).

On March 20, 2008, consistent with the decision in Timken Co. v. United States, 893 F.2d 337 (Fed. Cir. 1990), the Department notified the public that the CIT's decision was not in harmony with the Department's final results. See Freshwater Crawfish Tail Meat from the People's Republic of China: Notice of Court Decision Not In Harmony With Final Results of Administrative Review, 73 FR 14960 (March 20, 2008). No party appealed the CIT's decision. As there is now a final and conclusive court decision in this case, we are amending our Final Results.

Amended Final Results

As the litigation in this case has concluded, the Department is amending the Final Results to reflect the results of our remand determination. The revised dumping margin in the amended final results is as follows:

Exporter | Margin
Fujian | 60.83%

The Department will instruct U.S. Customs and Border Protection (“CBP”) to liquidate entries of freshwater crawfish tail meat from the People's Republic of China during the review period at the assessment rate the Department calculated for the final results of review as amended. We intend to issue the assessment instructions to CBP 15 days after the date of publication of these amended final results of review.

This notice is published in accordance with sections 751(a)(1) and 777(i) of the Act.

Dated: July 3, 2008.
David M. Spooner,
Assistant Secretary for Import Administration.

[FR Doc. E8-15811 Filed 7-10-08; 8:45 am]

BILLING CODE 3510-DS-S